DEPARTMENT OF COMMERCE

International Trade Administration

[A-533-885, C-533-886]

Polyester Textured Yarn from India: Rescission of Antidumping Duty and Countervailing Duty Administrative Reviews; 2019-2020

AGENCY: Enforcement and Compliance, International Trade Administration, Department of Commerce.

SUMMARY: The Department of Commerce (Commerce) is rescinding the administrative reviews of the antidumping duty (AD) and countervailing duty (CVD) orders on polyester textured yarn from India for the periods of review (POR) July 1, 2019, through December 31, 2020 (AD) and May 3, 2019, through December 31, 2020 (CVD), based on the timely withdrawal of the requests for review.

DATES: Applicable April 21, 2021.

FOR FURTHER INFORMATION CONTACT: Samantha Kinney (AD) or Janae Martin (CVD), AD/CVD Operations, Office VIII, Enforcement and Compliance, International Trade Administration, U.S. Department of Commerce, 1401 Constitution Avenue NW, Washington, DC 20230; telephone: (202) 482-2285 or (202) 482-0238, respectively.

SUPPLEMENTARY INFORMATION:

Background

On January 5, 2021, Commerce published in the Federal Register a notice of opportunity to request administrative reviews of the AD and CVD orders on polyester textured yarn from India.¹ On February 1, 2021, Sanathan Textiles Private Limited (Sanathan) requested administrative reviews of the AD and CVD orders for the PORs July 1, 2019, through December 31, 2020 (AD), and May 3, 2019, through December 31, 2020 (CVD).² Pursuant to these requests, Commerce initiated AD and CVD administrative reviews with respect to Sanathan, in accordance with section 751(a) of the Tariff Act of 1930, as amended (the Act).³ Subsequent to the initiation of these administrative reviews, Sanathan timely withdrew its requests for these reviews.⁴ No other party requested an administrative review of the AD or CVD order on polyester textured yarn from India.

¹ See Antidumping or Countervailing Duty Order, Finding, or Suspended Investigation; Opportunity to Request Administrative Review, 86 FR 291 (January 5, 2021).

² See Sanathan's Letters, “Polyester Texture yarn from India (A-533-885)—Request for Administrative Review of Anti-dumping duty order on behalf of Sanathan Textiles,” dated February 1, 2021; and “Polyester Texture yarn from India (C-533-886)—Request for Administrative Review of Countervailing duty order on behalf of Sanathan Textiles,” dated February 1, 2021.

³ See Initiation of Antidumping and Countervailing Duty Administrative Reviews, 86 FR 12599 (March 4, 2021).

⁴ See Sanathan's Letters, “Polyester Texture yarn from India (A-533-885)—Withdrawal Request for Administrative Review of Anti-dumping duty order on behalf of Sanathan Textiles,” dated March 12, 2021; and “Polyester Texture yarn from India (C-533-886)—Withdrawal Request of Request for Administrative Review of Countervailing duty order on behalf of Sanathan Textiles,” dated March 12, 2021.

Rescission of Administrative Reviews

Pursuant to 19 CFR 351.213(d)(1), Commerce will rescind an administrative review, in whole or in part, if the party that requested a review withdraws its request within 90 days of the date of publication of the notice of initiation. As stated above, Sanathan withdrew its requests for administrative reviews by the established 90-day deadline and there were no other requests for review. As a result, Commerce is rescinding these reviews in their entirety, in accordance with 19 CFR 351.213(d)(1).

Assessment

Commerce will instruct U.S. Customs and Border Protection (CBP) to assess antidumping and countervailing duties on all appropriate entries at rates equal to the cash deposit of estimated antidumping and countervailing duties required at the time of entry, or withdrawal from warehouse, for consumption, during the periods July 1, 2019, through December 31, 2020 (AD), and May 3, 2019, through December 31, 2020 (CVD), in accordance with 19 CFR 351.212(c)(1)(i). Commerce intends to issue assessment instructions to CBP no earlier than 35 days after publication of this notice in the Federal Register.

Notification to Importers

This notice serves as a final reminder to importers of their responsibility under 19 CFR 351.402(f)(2) to file a certificate regarding the reimbursement of antidumping and countervailing duties prior to liquidation of the relevant entries during this review period. Failure to comply with this requirement could result in the presumption that reimbursement of antidumping and countervailing duties occurred and the subsequent assessment of doubled antidumping and countervailing duties.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: April 16, 2021.
James Maeder,
Deputy Assistant Secretary for Antidumping and Countervailing Duty Operations.

[FR Doc. 2021-08257 Filed 4-20-21; 8:45 am]

BILLING CODE 3510-DS-P